DEPARTMENT OF ENERGY

Federal Energy Regulatory Commission

Combined Notice of Filings #1

Take notice that the Commission received the following electric corporate filings:

Docket Numbers: EC06-129-004

Applicants: Capital Research and Management Company.

Description: Request for Amended Order Under Section 203 of the Federal Power Act of Capital Research and Management Company.

Filed Date: 8/2/12

Accession Number: 20120802-5085

Comments Due: 5 p.m. ET 8/23/12

Docket Numbers: EC12-128-000

Applicants: Public Service Company of Colorado, BIV Generation Company, L.L.C., Colorado Power Partners, Centennial Power, LLC, Brush Power, LLC

Description: Joint Application for Authorization Under Section 203 of the Federal Power Act for Disposition of Jurisdictional Facilities and Request for Confidential Treatment of Public Service Company of Colorado, et al.

Filed Date: 8/2/12

Accession Number: 20120802-5090

Comments Due: 5 p.m. ET 8/23/12

Take notice that the Commission received the following electric rate filings:

Docket Numbers: ER10-2719-008; ER10-2718-008; ER10-2578-010; ER10-2633-008; ER10-2570-008; ER10-2717-008; ER10-3140-007

Applicants: Fox Energy Company LLC, Birchwood Power Partners, L.P., Shady Hills Power Company, L.L.C., EFS Parlin Holdings, LLC, Inland Empire Energy Center, LLC, East Coast Power Linden Holding, L.L.C., Cogen Technologies Linden Venture, L.P.

Description: Notice of Non-Material Change in Status of East Coast Power Linden Holding, L.L.C., et al.

Filed Date: 8/2/12

Accession Number: 20120802-5147

Comments Due: 5 p.m. ET 8/23/12

Docket Numbers: ER12-2382-000

Applicants: Duke Energy Carolinas, LLC

Description: Duke Energy Carolinas, LLC submits tariff filing per 35.13(a)(2)(iii: Amendment to NCEMC PPA to be effective 7/2/2012.

Filed Date: 8/2/12

Accession Number: 20120802-5061

Comments Due: 5 p.m. ET 8/23/12

Docket Numbers: ER12-2383-000

Applicants: Duke Energy Carolinas, LLC

Description: Amendment to NCEMC IA to be effective 7/2/2012.

Filed Date: 8/2/12

Accession Number: 20120802-5063

Comments Due: 5 p.m. ET 8/23/12

Docket Numbers: ER12-2384-000

Applicants: BFES Inc.

Description: Initial Tariff Baseline to be effective 9/24/2012.

Filed Date: 8/2/12

Accession Number: 20120802-5095

Comments Due: 5 p.m. ET 8/23/12

Docket Numbers: ER12-2385-000

Applicants: PJM Interconnection, L.L.C.

Description: Revisions to Sec 3.2.3-OATT Att K Appx & OA Sch 1-Shortage Pricing Sharing Agmts to be effective 10/1/2012.

Filed Date: 8/2/12

Accession Number: 20120802-5097

Comments Due: 5 p.m. ET 8/23/12

Docket Numbers: ER12-2386-000

Applicants: New England Power Company

Description: Notice of Cancellation of Service Agreement and Request for Waiver of Commission Notice Requirements of New England Power Company.

Filed Date: 8/2/12

Accession Number: 20120802-5101

Comments Due: 5 p.m. ET 8/23/12

Docket Numbers: ER12-2387-000

Applicants: Southwest Power Pool, Inc.

Description: Revisions to Implement Reallocation of Revenue Pursuant to Attachment J & O to be effective 10/1/2012.

Filed Date: 8/2/12

Accession Number: 20120802-5121

Comments Due: 5 p.m. ET 8/23/12

Docket Numbers: ER12-2388-000

Applicants: BFES Inc.

Description: Initial Tariff Baseline to be effective 9/24/2012.

Filed Date: 8/2/12

Accession Number: 20120802-5128

Comments Due: 5 p.m. ET 8/23/12

Docket Numbers: ER12-2389-000

Applicants: NaturEner Power Watch, LLC

Description: Revised Amended and Restated COA with NorthWestern Corporation to be effective 8/3/2012.

Filed Date: 8/2/12

Accession Number: 20120802-5129

Comments Due: 5 p.m. ET 8/23/12

Docket Numbers: ER12-2390-000

Applicants: Entergy Arkansas, Inc.

Description: Attachment S Independent Coordinator of Transmission to be effective 12/1/2012.

Filed Date: 8/2/12

Accession Number: 20120802-5130

Comments Due: 5 p.m. ET 8/23/12

Docket Numbers: ER12-2391-000

Applicants: PJM Interconnection, L.L.C.

Description: Revisions to OATT Att K Apx & OA Sch 1-Marg. Benefits Factor & Make-Whole Pymts to be effective 10/1/2012.

Filed Date: 8/2/12

Accession Number: 20120802-5133

Comments Due: 5 p.m. ET 8/23/12

Docket Numbers: ER12-2392-000

Applicants: Northern States Power Company, a Wisconsin corporation

Description: 20120802_Wholesale_Rate to be effective 7/1/2012.

Filed Date: 8/2/12

Accession Number: 20120802-5134

Comments Due: 5 p.m. ET 8/23/12

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2012.
Nathaniel J. Davis, Sr.,
Deputy Secretary.

[FR Doc. 2012-19755 Filed 8-10-12; 8:45 am]

BILLING CODE 6717-01-P